DEPARTMENT OF HOUSING AND URBAN DEVELOPMENT

[Docket No. FR-7024-N-40]

30-Day Notice of Proposed Information Collection: Project Based Vouchers (PBV) Data Collection; OMB Control No.: 2577-NEW Collection

AGENCY: Office of the Chief Information Officer, Housing and Urban Development (HUD).

ACTION: Notice.

SUMMARY: HUD has submitted the proposed information collection requirement described below to the Office of Management and Budget (OMB) for review, in accordance with the Paperwork Reduction Act. The purpose of this notice is to allow for an additional 30 days of public comment.

DATES: Comments Due Date: October 26, 2020.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on December 26, 2019 at 84 FR 70986.

60 Day Collection:

On December 26, 2019, at 84 FR 70986, HUD published its 60-day notice, the first notice for public comment required by the PRA, to commence the process for approval of the collection of certain data on Project Based-Vouchers (PBV) via an online form. HUD specifically solicited public comment on several issues. The 60-day public comment period ended on February 24, 2020. HUD received 13 comments. The following section, includes HUD's responses to these comments, several of which prompted changes to the proposed data fields to be collected.

Comment: A number of commenters replied that HUD collects a portion of this data in existing systems such as PIC or VMS, or through collection of data through the RAD conversion or subsidy layering review processes. They urged HUD to look at ways to utilize and aggregate existing data to reduce the amount of data that PHAs will have to enter for this PRA.

HUD Response: HUD appreciates these commenters' concerns that HUD may collect some of this information through existing processes and systems. While there is no systematic, universal collection of data on PBV at the project level, HUD is aware that it does collect some information through systems such as PIC that could be useful for prepopulating fields. HUD will explore the feasibility of aggregating this data to prepopulate those fields that could be prepopulated. In addition, HUD anticipates that some of the current PBV reporting would be replaced by the new online form.

Comment: Commenters expressed concern about the potential burden this data collection would have on PHAs. Specific concerns were addressed around the Department's estimate of burden that estimated PHAs would report on this data 6 times per year. Some commenters suggested that PHAs should only have to report on this information annually. Other commenters stated that the estimated time suggested for each individual entry was too low at 1.5 hours and suggested a more accurate time estimate would be 3-4 hours per project.

HUD response: HUD understands PHA concerns about burden and the estimate in the notice. First, HUD would like to clarify that this data would not be collected once a year or annually. This involves an initial one-time collection of data on PBV projects for PHAs. Any subsequent reporting would only be required when changes occurred on the project that would require the PHA to update any of the fields listed in the notice. Since most of the fields in the notice would not need to be updated during the course of the PBV contract, the burden hours after the initial collection would drop significantly.

Comment: Several commenters expressed concern whether the information collection was designed to provide a systematic means to collect information or whether HUD intends to use this information collection to implement new regulations and other enforcement actions.

HUD Response: The primary purpose of this collection is not to implement any enforcement actions. The purpose of the collection is for HUD to have data on the project level for this part of the HCV program which

Comment: Several Commenters recommended that the Department make the data it collects easily available to the public in an easily accessible manner while maintaining all necessary protections for privacy for HCV families.

HUD Response: HUD appreciates the concerns of commenters and is committed to making as much information public as feasible while protecting the legitimate privacy concerns of tenants and other stakeholders.

Comment: One commenter stated they do not specifically designate 504 accessible units until the tenant informs them and then they retrofit the unit. They indicated that it may be difficult to identify these units.

HUD Response: For projects that come under new PBV Housing Assistance Payment (HAP) contracts, the online form will require that the PHA identify the PBV-assisted accessible units at the project. For projects under existing HAP contracts, the online form will include fields where the PHA may identify the PBV-assisted accessible units at the project. The PHA must enter this information if it has this information or can readily obtain this information. PHAs are strongly encouraged to make reasonable efforts to obtain this information and enter it into the online form as it would provide both HUD and the PHA with a more complete picture of the PHA's accessible housing stock. Such information can be used by both HUD and the PHA to ensure that PBV projects meet the requirements for the minimum number of accessible units and that accessible units are occupied by persons with disabilities who require the accessibility features of the unit, in accordance with Section 504 of the Rehabilitation Act of 1973 and HUD's implementing regulations at 24 CFR part 8. If a PHA makes alterations to a project that results in the creation of PBV-assisted accessible units, this would be considered a change in the project and the PHA must report this change by updating the online form.

Comment: One commenter asked in regard to the collection also requiring the identification of Section 504 mobility units and Section 504 vision- and hearing-impaired units whether a number of units by bedroom size needs to be provided, or whether the specific units need to be identified.

HUD Response: The online form will require the PHA to report the number of PBV-assisted units, by bedroom size, that are accessible to persons with mobility impairments or accessible to persons with hearing or vision impairments. The specific units will not need to be entered into the online form.

Comment: Another commenter asked regarding the reporting of accessible units meeting either the UFAS or the 2010 ADA standards: whether the specific standard met would need to be identified.

HUD Response: The online form will require the PHA to identify which accessibility standard was used. The online form will require the PHA to indicate whether the accessible unit meets UFAS or the Deeming Notice/2010 ADA standards, in accordance with HUD's Notice on “Instructions for use of alternative accessibility standard,” published in the Federal Register on May 23, 2014 (“Deeming”).

Collecting information on Section 504 accessible units that are not receiving PBV assistance that exist in properties where other units are receiving PBV assistance would have some usefulness in assessing the overall availability of accessible units in the community, neighborhood, municipality, etc. This usefulness would be limited, however, without a much broader inventory of accessible units. It also might be useful to individuals and service agencies in identifying accessible units for those seeking such units. The feasibility of collecting such information, however, will vary tremendously from project to project and will not be feasible in all situations. HUD strongly encourages PHAs to report the total number and bedroom distribution of accessible units at PBV projects (including PBV-assisted and non-PBV-assisted accessible units), as this would provide a more complete picture of whether the PBV project is providing the required minimum number of accessible units. However, HUD recognizes that PHAs may face challenges in collecting information on accessible units that are not receiving PBV assistance. The online form will contain a field that allows PHA to identify non-PBV-assisted accessible units at the project, but completion of this field will not be mandatory.

Comment: One commenter discussed how burdensome the initial data collection would be for PHAs with many PBV contracts. The commenter suggested that, once the collection begins, PHAs enter the initial submission for new HAP/AHAP contracts at time of execution and enter all initial submissions for existing contracts at time of contract renewal.

HUD Response: HUD understands that PHAs with many HAP contracts would have significant amounts of data to input on first submission. However, waiting until contract renewal would take many years for HUD to get a full picture of the PBV portfolio since HAP contracts may have initial terms of up to 20 years and extension terms of up to 20 years. Instead HUD will allow a phase-in period for existing contracts to be inputted once the collection begins. Additionally, HUD is mindful of the challenges facing PHAs in 2020 from the COVID-19 pandemic and does not plan on starting the clock on any collection in 2020.

Comment: Some commenters suggested that for MTW agencies who already answer a few PBV questions on the MTW report, that it would be better to add additional necessary questions there.

HUD Response: The intent of this form is to centralize the collection of PBV data. It is HUD's intention to remove PBV questions from the MTW report when this collection of PBV data actually occurs.

Comment: One commenter said that MTW agencies can waive the independent entity requirement and so cannot adequately answer the question on the name of the independent entity for a PBV project on the form.

HUD Response: MTW agencies may indicate that this question is not applicable to them, should they be implementing this waiver.

Comment: One commenter pointed out that MTW agencies can waive the income-mixing requirement and there was no way to indicate that on the form.

HUD Response: MTW agencies may indicate that this question is not applicable to them, should they be implementing this waiver.

Comment: One commenter stated that the form asks if a PHA is exceeding the program cap with an exception and what that exception is. MTW agencies may waive the program cap without an exception.

HUD Response: MTW agencies may indicate if they are waiving the program cap and are not applying any specific exceptions.

B. Overview of Information Collection

Title of Information Collection: Project Based Vouchers (PBV) Online Form.

OMB Approval Number: Pending OMB Approval.

Type of Request: New.

Form Number: HUD is developing a standardized electronic system and data exchange standard for this collection and will provide a web service to support electronic file transfer using Java Script Object Notation (JSON). Within the scope of this collection, HUD requests the information in this notice from participating PHAs.

Description of the need for the information and proposed use:

Public Housing Agencies (PHAs) apply for funding to assist low-income families to lease housing. One of the programs through which PHAs provide housing assistance is the Housing Choice Voucher (HCV) Program, a tenant-based rental assistance program. This program operates by providing vouchers that cover a portion of the contract rent for a unit. Some PHAs project-base their vouchers (the rental assistance is connected to a unit, not a family). Project-based vouchers (PBVs) are becoming a larger percentage of PHAs overall HCV portfolios, rising from just over 110,000 in 2016 to approximately 215,000 in mid-2019. The PBV portfolio is expected to grow even more with the on-going conversion of up to 455,000 public housing units to project-based assistance under the Congressionally-authorized Rental Assistance Demonstration (RAD). HUD currently collects information on individual participants in the HCV program who are in PBV units and Project certificate (PBC) housing through the PIC system. In addition, HUD collects aggregate information on the total number of PBVs under contract at the PHA level. HUD currently does not systematically collect information on the project or development level for PBVs.

This leaves a gap in HUD's information collection of PBVs between the individual tenant data and the aggregated PHA data. HUD does not systematically collect information on the development or project level, including the number of units at PBV projects, what exceptions apply, their rents, the terms of contract, and numerous other potential data points. This creates a challenge for monitoring, tracking and analyzing PBV projects, and limits HUD's ability to respond to requests for information on the PBV program from Congress and other sources. Additionally, it prevents HUD from having data with which to make informed decisions on risk-mitigation strategies with respect to PBVs.

Potential risks are particularly heightened in the case of two specific program categories; Rental Assistance Demonstration (RAD) that transition to be Project Based Vouchers and PHA-owned units where an independent entity performs inspections and determines the rent amounts. What distinguishes RAD PBVs from regular Project-Based Vouchers is the initial construction of public housing was paid for by HUD, rents are initially set below market level, and they are supposed to remain affordable in perpetuity. Currently, HUD has very limited information about RAD-PBV properties after their conversion and is unable to adequately monitor their long-term viability. PHA-owned PBVs pose a risk because PHAs may assist properties they own, subject to the independent entity requirement. In addition, many other non-RAD or PHA-owned projects, such as those with 100% PBVs serving disabled or requiring supporting services represent crucial affordable housing resources for vulnerable communities that cannot be quickly and easily replaced through providing a voucher.

Through this collection, HUD is requiring the submission of project-level data on all Project-Based Vouchers, including but not limited to Rental Assistance Demonstration Project Based-Vouchers, mixed-finance Project-Based Vouchers, all Project-Based Vouchers at Moving to Work Agencies, and all Project Based Vouchers at non-Moving to Work Agencies.

The fields of collection for PBV projects may include:

HAP Contract Number

Name of Project

Address of Building(s) and Units

Number of Units Under AHAP

Number of Units Under HAP Contract by Bedroom Size

Number of Total Units in the Project

Structure Type

Type: Existing, Rehabilitated, or Newly Constructed

Effective Date(s) of HAP Contract

Expiration Date

Owner Name

Owner Tax ID

PHA-Owned, PHA Has Ownership Interest but Not PHA-Owned, No PHA Ownership Interest

If PHA-Owned: Name of Independent Entity or Entities

Other Related Programs: Tax Credit, RAD, HUD-insured, VASH, or Other

Population Served: General, Homeless, Veterans, Families Eligible for Supportive Services, Families Receiving Supportive Services, Elderly Family, Disabled Family

Does an Exception to the Income-Mixing Requirement Apply?

If Yes, Which Exceptions(s)

Supportive Services Available (Y/N)?

Vacancy Payments Permitted (Y/N)?

Program Cap Exception (Y/N)?

Program Cap Exception Category

Unique Project Building Code *

HAP Contract Code *

Number of RAD PBVs

Use Restriction End Date

Year Built

Number and Bedroom Distribution of PBV-Assisted Section 504 Mobility Units at the Project

Number and Bedroom Distribution of PBV-Assisted Section 504 Hearing/Vision Units at the Project

* The Unique Project Building Code and HAP Contract Code may be produced by the system or a protocol for numbering may be established by HUD.

It is important to note that those fields that may not apply to MTW agencies because of exemptions to specific areas (for example, the program cap exception category) will not be required fields for those agencies.

HUD recognizes that some of this information may be submitted to HUD, for instance as part of the initial subsidy layering review process, however, these submissions are insufficient to give HUD a universal and currently accurate picture of the Project Based Voucher universe. Therefore, HUD is proposing this information collection.

Definitions—

HAP Contract Number

A unique number assigned to a Form HUD-52530-A (PBV HAP Contract—New Construction Or Rehabilitation) or Form HUD-52530-B (PBV HAP Contract—Existing Housing) (hereinafter “HAP contract”) executed for the project, which may be produced by the system or a protocol for numbering may be established by HUD.

Name of Project

The name of the project as determined by the PHA as used in public or property records (where such records contain a name of the property as a whole) or the commonly used name of the project (such as the name on a sign at the property entrance). If no such name exists, a name for the project designated by the PHA for use in the system. “Project” is defined consistent with 24 CFR 983.3(b) as “a single building, multiple contiguous buildings, or multiple buildings on contiguous parcels of land.”

Address of Building(s) and Units

The street address, city, state, and zip code of the building or buildings covered by the HAP contract and all units covered under the HAP contract.

Number of Units Under HAP Contract by Bedroom Size

Total number of contract units in the project covered by the HAP contract, broken out by each bedroom size (0, 1, 2, 3, 4, 5+).

Number of Total Units in the Project

Total number of units in the project, including those covered by Form HUD-52523-A and Form HUD-52523-B (Agreement to Enter into a Housing Assistance Payment Contract) (hereinafter “AHAP”) or HAP contract and non-contract units.

Structure Type

The most closely matching description of the project from among this list: Elevator Structure, Mixed Type, Row or Townhouse Style (Separate Entrances), Semi Detached, Single Family/Detached, Walkup/Multifamily Apt (Shared Entrance).

Type: Existing, Rehabilitation or Newly Constructed

The following definitions apply consistent with 24 CFR 983.3(b), as amended by 82 FR 5458 (Jan. 18, 2017), 82 FR 32461 (Jul. 14, 2017):

Existing Housing

Housing units that already exist on the proposal selection date and that substantially comply with the HQS on that date.

Rehabilitated Housing

Housing units that exist on the proposal selection date, but do not substantially comply with the HQS on that date, and are developed, pursuant to an Agreement between the PHA and owner, for use under the PBV program.

Newly Constructed Housing

Housing units that do not exist on the proposal selection date and are developed after the date of selection pursuant to an Agreement between the PHA and owner for use under the PBV program.

Upon amendment of 24 CFR 983.3(b), the new definitions therein will supersede the definitions listed here.

Effective Date(s) of HAP Contract

Effective date(s) listed in § 1(d) of Part 1 of the HAP contract. A single-stage project will have the same effective date for all contract units. For a multi-stage project, include the dates of each stage and the contract units covered by each stage.

Expiration Date

The HAP contract term end date, as determined by adding the length of the HAP contract term (initial and any extensions) to the effective date listed in § 1(d) of Part 1 of the HAP contract (for a multi-stage project, use the effective date of the first stage). The length of the initial and extension HAP contract terms shall be those listed in the HAP contract (for existing projects: § 1(d) of Part 1 of the Form HUD-52530-B HUD and associated exhibits; for newly constructed and rehabilitated projects: § 1(e) of Part 1 of the Form HUD-52530-A and associated exhibits).

Owner Name

The owner name as listed in § 1(a) of Part 1 of the HAP contract and contact information (telephone and email).

Owner Tax ID

The owner's federal tax identification number.

PHA-Owned, PHA Has Ownership Interest but Not PHA-Owned, No PHA Ownership Interest

The following definitions apply consistent with 24 CFR part 983, as amended by 82 FR 5458 (Jan. 18, 2017), 82 FR 32461 (Jul. 14, 2017):

(1) PHA-owned:

a. Owned by the PHA (which includes a PHA having a “controlling interest” in the entity that owns the unit);

b. Owned by an entity wholly controlled by the PHA; or

c. Owned by a limited liability company (LLC) or limited partnership in which the PHA (or an entity wholly controlled by the PHA) holds a controlling interest in the managing member or general partner.

“Controlling interest” means:

a. Holding more than 50 percent of the stock of any corporation;

b. Having the power to appoint more than 50 percent of the members of the board of directors of a non-stock corporation (such as a non-profit corporation);

c. Where more than 50 percent of the members of the board of directors of any corporation also serve as directors, officers, or employees of the PHA;

d. Holding more than 50 percent of all managing member interests in an LLC;

e. Holding more than 50 percent of all general partner interests in a partnership; or

f. Having equivalent levels of control in other ownership structures. Most ownership structures are already covered in the categories listed above. This last category is meant to cover any ownership structure not already listed in the categories above. Also, under this category (f), a PHA must have more than 50 percent control in that ownership structure (an equivalent level of control) for the project to be considered PHA-owned.

(2) PHA ownership interest: An ownership interest means that the PHA or its officers, employees, or agents are in an entity that holds any direct or indirect interest in the project in which the units are located, including, but not limited to, an interest as:

a. Titleholder;

b. Lessee;

c. Stockholder;

d. Member, or general or limited partner; or

e. Member of a limited liability corporation.

(3) No PHA ownership interest: The PHA has no ownership interest in the property.

Upon amendment of 24 CFR part 983, the new definitions therein will supersede the definitions listed here.

If PHA-Owned: Name of Independent Entity or Entities

If the project is PHA-owned, the independent entity or entities which perform the following functions consistent with 24 CFR part 983:

1. Review the PHA's PBV selection process.

2. Establish PBV contract rents (initial rent to owner and redetermined rent to owner).

3. Determine rent reasonableness.

4. Provide a copy of the rent reasonableness determination to the PHA and the HUD field office where the project is located.

5. Establish term of initial and any renewal HAP contract as required in 24 CFR 983.205.

6. Inspect units.

7. Provide a copy of the inspection report to PHA and HUD field office where the project is located.

Other Related Programs: Tax Credit, RAD, HUD-Insured, VASH, or Other

List any HUD voucher authority other than regular Housing Choice Vouchers used to provide PBVs to the project (e.g., RAD, VASH). List other governmental housing assistance from federal, state, or local agencies, including assistance such as tax concessions or tax credits (e.g., HUD-insured, Tax Credit). This is a required field for new projects and those that have been substantially rehabilitated. HUD encourages PHAs to submit data for other projects to the extent it is readily available.

Population Served: General, Homeless, Veterans, Families Eligible for Supportive Services, Families Receiving Supportive Services, Elderly Family, Disabled Family

List the population(s) served if the project contains units specifically made available for or exclusively made available to a specific population. If some units are not specifically made available for or exclusively made available to a specific population listed below, mark “General.” The definitions of each population are found in the following locations, consistent with 24 CFR parts 5, 983, as amended by 82 FR 5458 (Jan. 18, 2017), 82 FR 32461 (Jul. 14, 2017):

1. Homeless: PIH Notice 2017-21, Attachment D.

2. Veterans: PIH Notice 2017-21, Attachment D.

3. Families eligible for supportive services: PIH Notice 2017-21, Attachments D and E.

4. Families receiving supportive services: PIH Notice 2017-21, Attachment E.

5. Elderly family: 24 CFR 5.403.

6. Disabled family: 24 CFR 5.403.

Upon amendment of 24 CFR part 983, the new definitions therein will supersede the definitions listed here.

Does an Exception to the Income-Mixing Requirement Apply?

Provide an answer (yes/no) to the question of whether the project qualifies for an exception to the income-mixing requirement under 24 CFR 983.56, as amended by 82 FR 5458 (Jan. 18, 2017), 82 FR 32461 (Jul. 14, 2017).

If Yes, Which Exception(s)

Choose the applicable exception from among those allowed by 24 CFR 983.56, as amended by 82 FR 5458 (Jan. 18, 2017), 82 FR 32461 (Jul. 14, 2017). The definitions of the exception categories are found in the following locations:

1. Units that are exclusively made available to households eligible for supportive services: PIH Notice 2017-21, Attachment E.

2. Units that are specifically made available for families receiving supportive services: PIH Notice 2017-21, Attachment E, for grandfathered projects as described therein.

3. Units that are exclusively made available to elderly families: PIH Notice 2017-21, Attachment E.

4. Units that are specifically made available for disabled families: PIH Notice 2017-21, Attachment E, for grandfathered projects as described therein.

5. Units located in a census tract with a poverty rate of 20 percent or less: PIH Notice 2017-21, Attachment E.

6. Units that were previously subject to certain federal rent restrictions or receiving another type of long-term housing subsidy provided by HUD: PIH Notice 2017-21, Attachment F, for projects that meet the additional requirements as described therein.

7. RAD PBV units: PIH Notice 2017-21, Attachment F.

8. HUD-VASH vouchers specifically designated for project-based assistance: PIH Notice 2017-21, Attachment F.

Upon amendment of 24 CFR part 983, the new definitions therein will supersede the definitions listed here.

Supportive Services Required/Available

If the project has supportive services available to residents so as to qualify for an exception to 24 CFR 983.56.

Vacancy Payments Permitted

Provide an answer (yes/no) to the question of whether the PHA has included the vacancy payment provision in this HAP contract (for existing projects: § 1(e)(2) of Part 1 of the Form HUD-52530-B HUD; for newly constructed and rehabilitated projects: § 1(f)(2) of Part 1 of the Form HUD-52530-A).

Program Cap Exception (Y/N)?

Provide an answer (yes/no) to the question of whether the project qualifies for an exception to the program cap under 24 CFR 983.6, as amended by 82 FR 5458 (Jan. 18, 2017), 82 FR 32461 (Jul. 14, 2017).

Program Cap Exception Category

Choose the applicable exception from among those allowed by 24 CFR 983.6, as amended by 82 FR 5458 (Jan. 18, 2017), 82 FR 32461 (Jul. 14, 2017). The definitions of the exception categories are found in the following locations:

1. Units that are specifically made available to house homeless individuals and families: PIH Notice 2017-21, Attachment D.

2. Units that are specifically made available to house families that are comprised of or include a veteran: PIH Notice 2017-21, Attachment D.

3. Units that provide supportive housing to persons with disabilities or to elderly persons: PIH Notice 2017-21, Attachment D.

4. Units located in a census tract with a poverty rate of 20 percent or less: PIH Notice 2017-21, Attachment D.

5. Units that were previously subject to certain federal rent restrictions or receiving another type of long-term housing subsidy provided by HUD: PIH Notice 2017-21, Attachment F, for projects that meet the additional requirements as described therein.

6. RAD PBV units: PIH Notice 2017-21, Attachment F.

7. HUD-VASH vouchers specifically designated for project-based assistance: PIH Notice 2017-21, Attachment F.

Upon amendment of 24 CFR part 983, the new definitions therein will supersede the definitions listed here.

Unique Project Building Code *

Code may be produced by the system or a protocol for numbering may be established by HUD.

Use Restriction End Date

Provide an answer (yes/no) to the question of whether the project is subject to a use restriction imposed by HUD. If yes, provide the end date of the use restriction.

Number of RAD PBVs

Number of PBVs that converted under the Rental Assistance Demonstration Program.

HAP Contract Number

Code may be produced by the system or a protocol for numbering may be established by HUD.

Year Built

The year the project's construction was first completed.

Number and Bedroom Distribution of PBV-Assisted Section 504 Mobility Units at the Project

This field captures the number of PBV-assisted units at the project that are accessible for persons with mobility impairments in accordance with Section 504 of the Rehabilitation Act of 1973 and HUD's implementing regulations at 24 CFR part 8. Such units must meet either the Uniform Federal Accessibility Standards (UFAS) or 2010 Americans with Disabilities Act (ADA) Standards (in accordance with HUD's Deeming Notice published in the Federal Register on May 23, 2014 (79 FR 29671)). For projects that come under new PBV Housing Assistance Payment (HAP) contracts, the online form will require that the PHA identify the PBV-assisted accessible units at the project. For projects under existing HAP contracts, the online form will include fields where the PHA may identify the PBV-assisted accessible units at the project. The PHA must enter this information if it has this information or can readily obtain this information.

Number and Bedroom Distribution of PBV-Assisted Section 504 Hearing/Vision Units at the Project

PHAs will be required to enter this information into the online form when a new project comes under HAP contract, and when project or development information changes. The unique project code identifier will tie to future potential changes to the 50058 which will permit linking HUD assisted-tenants to HUD assisted-properties. This is a new information collection.

Respondents (i.e., affected public): Public housing authorities (PHAs) that have project-based vouchers (PBVs) as a part of their portfolio

Note: Preparer of this notice may substitute the chart for everything beginning with estimated number of respondents above:

Information collection | Number of respondents | Frequency of response | Responses per annum | Burden hour per response | Annual burden hours | Hourly cost per response | Annual cost
PBV Property Information | 668 | 6 | 4,008 | 1.5 | 6,012 | $40.10 | $241,018.20

Our burden estimate for the number of respondents is based on a recent VMS total of the number of PHAs reporting PBVs in VMS. It is assumed PHAs will have to do a one-time submission for all the projects as well as potentially make updates when changes occur to the PBV projects (frequency of responses). The “responses per annum” represents an estimate of the amount of PBV projects that will need to be entered into the system. This number is multiplied by the frequency of responses to arrive at an annual estimate of burden hours. This is then multiplied by median average wage of a “Management Analyst” according to the Bureau of Labor Statistics for 2019 to arrive at a total annual cost.¹ Commenters stated that the initial input of this data would take more than the estimated 1.5 hours, however, it is important to consider that the 1.5 hours is an average between the higher amount of time required on the initial submission and the lower time required by subsequent updates which may only require updating one or two fields. It is anticipated that this cost will decline in subsequent years as PHAs only need to update information already in the system when changes are made to PBV projects.

¹ https://www.bls.gov/oes/current/oes131111.htm.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

Authority: Section 3507 of the Paperwork Reduction Act of 1995, 44 U.S.C. Chapter 35.

Department Reports Management Officer for the Office of the Chief Information Officer, Colette Pollard, having reviewed and approved this document, is delegating the authority to electronically sign this document to submitter, Nacheshia Foxx, who is the Federal Register Liaison for HUD, for purposes of publication in the Federal Register.

Dated: September 18, 2020.
Nacheshia Foxx,
Federal Register Liaison for the Department of Housing and Urban Development.

[FR Doc. 2020-21051 Filed 9-23-20; 8:45 am]

BILLING CODE 4210-67-P